DEPARTMENT OF COMMERCE

International Trade Administration

[C-351-861, C-834-813, C-557-829]

Ferrosilicon From Kazakhstan: Amended Final Countervailing Duty Determination; Ferrosilicon From Brazil, Kazakhstan, and Malaysia: Countervailing Duty Orders

AGENCY: Enforcement and Compliance, International Trade Administration, Department of Commerce.

SUMMARY: Based on affirmative final determinations by the U.S. Department of Commerce (Commerce) and the U.S. International Trade Commission (ITC), Commerce is issuing countervailing duty (CVD) orders on ferrosilicon from Brazil, Kazakhstan, and Malaysia. In addition, Commerce is amending its final CVD determination with respect to ferrosilicon from Kazakhstan to correct a ministerial error.

DATES: Applicable May 20, 2025.

FOR FURTHER INFORMATION CONTACT: Laurel Smalley (Brazil), Jose Rivera (Kazakhstan), and Suresh Maniam (Malaysia), Offices VIII, VII, and I, respectively, AD/CVD Operations, Enforcement and Compliance, International Trade Administration, U.S. Department of Commerce, 1401 Constitution Avenue NW, Washington, DC 20230; telephone: (202) 482-3456, (202) 482-0842, and (202) 482-1603, respectively.

SUPPLEMENTARY INFORMATION:

Background

On March 28, 2025, Commerce published in the Federal Register its affirmative final determinations in the CVD investigations of ferrosilicon from Brazil, Kazakhstan, and Malaysia.¹ In the CVD investigation of ferrosilicon from Kazakhstan, the petitioner and a respondent timely alleged that Commerce made certain ministerial errors. See “Amendment to the Kazakhstan CVD Final Determination” section below for further discussion.

¹ See Ferrosilicon from Brazil: Final Affirmative Countervailing Duty Determination and Final Affirmative Critical Circumstances Determination, in Part, 90 FR 14114 (March 28, 2025); Ferrosilicon from the Republic of Kazakhstan: Final Affirmative Countervailing Duty Determination, 90 FR 14108 (March 28, 2025) (Kazakhstan CVD Final Determination); and Ferrosilicon from Malaysia: Final Affirmative Countervailing Duty Determination and Final Affirmative Determination of Critical Circumstances, in Part, 90 FR 14075 (March 28, 2025).

On May 12, 2025, the ITC notified Commerce of its final determinations, pursuant to section 705(d) of the Tariff Act of 1930, as amended (the Act), affirming that an industry in the United States is materially injured within the meaning of section 705(b)(1)(A)(i) of the Act by reason of subsidized imports of ferrosilicon from Brazil, Kazakhstan, and Malaysia.² Further, the ITC determined that critical circumstances do not exist with respect to imports of ferrosilicon from Brazil and Malaysia.³

² See ITC's Letter, “Notice of Final Determinations (Investigation Nos. 701-TA-712-714 and 731-TA-1679-1681),” dated May 12, 2025.

³ Id. Critical circumstances were not alleged in the CVD investigation on ferrosilicon from Kazakhstan.

Scope of the Orders

The product covered by these orders is ferrosilicon from Brazil, Kazakhstan, and Malaysia. For a complete description of the scope of the orders, see the appendix to this notice.

Amendment to the Kazakhstan CVD Final Determination

We determine that we made a ministerial error in the final CVD determination on ferrosilicon from Kazakhstan. Pursuant to 19 CFR 351.224(e), and as explained further in the Kazakhstan CVD Ministerial Eror Memorandum,⁴ Commerce is amending the Kazakhstan CVD Final Determination to reflect the correction of a ministerial error, which resulted from not incorporating YDD Corporation LLP's (YDD) reported minor corrections regarding its total sales figure and Customs Duty Exemption. Correction of this error changes the final subsidy rate for YDD and all other producers and exporters not individually investigated.

⁴ See Memorandum, “Countervailing Duty Investigation of Ferrosilicon from the Republic of Kazakhstan: Analysis of Ministerial,” dated April 15, 2025 (Kazakhstan CVD Ministerial Eror Memorandum).

CVD Orders

Based on the above-referenced affirmative final determinations by the ITC that an industry in the United States is materially injured by reason of subsidized imports of ferrosilicon from Brazil, Kazakhstan, and Malaysia, in accordance with section 705(c)(2) of the Act, Commerce is issuing these CVD orders. Because the ITC determined that imports of ferrosilicon from Brazil, Kazakhstan, and Malaysia are materially injuring a U.S. industry, unliquidated entries of such merchandise entered or withdrawn from warehouse for consumption, are subject to the assessment of countervailing duties.

Therefore, in accordance with section 706(a)(1) of the Act, Commerce will direct CBP to assess, upon further instruction by Commerce, countervailing duties on all relevant entries of ferrosilicon from Brazil, Kazakhstan, and Malaysia, which are entered, or withdrawn from warehouse, for consumption on or after September 10, 2024, the date of publication of the Preliminary Determinations,⁵ but will not include entries occurring after the expiration of the provisional measures period and before publication of the ITC's final affirmative injury determination under section 705(b) of the Act, as further described in the “Provisional Measures” section of this notice.

⁵ See Ferrosilicon from Brazil: Preliminary Affirmative Countervailing Duty Determination, Preliminary Affirmative Critical Circumstances Determination in Part, and Alignment of Final Determination with Final Antidumping Duty Determination, 89 FR 73371 (September 10, 2024) (Brazil Preliminary Determination); Ferrosilicon from the Republic of Kazakhstan: Preliminary Affirmative Countervailing Duty Determination and Alignment of Final Determination with Final Antidumping Duty Determination, 89 FR 73369 (September 10, 2024) (Kazakhstan Preliminary Determination); and Ferrosilicon from Malaysia: Preliminary Affirmative Countervailing Duty Determination, Preliminary Affirmative Critical Circumstances Determination, in Part, and Alignment of Final Determination with Final Antidumping Duty Determination, 89 FR 73364 (September 10, 2024) (Malaysia Preliminary Determination) (collectively, Preliminary Determinations).

With regard to the ITC's negative critical circumstances determinations on imports of ferrosilicon from Brazil and Malaysia, we intend to instruct CBP to lift suspension and to refund any cash deposits made to secure the payment of estimated countervailing duties with respect to entries of the subject merchandise entered, or withdrawn from warehouse, for consumption on or after June 12, 2024, (i.e., 90 days prior to the date of the publication of the Preliminary Determinations), but before September 10, 2024 (i.e., the date of publication of the Preliminary Determinations).

Suspension of Liquidation and Cash Deposits

In accordance with section 706 of the Act, Commerce will instruct CBP to reinstitute the suspension of liquidation of ferrosilicon from Brazil, Kazakhstan, and Malaysia, effective on the date of publication of the ITC's final affirmative injury determination in the Federal Register, and to assess, upon further instruction by Commerce, pursuant to section 706(a)(1) of the Act, countervailing duties on each entry of subject merchandise in an amount based on the net countervailable subsidy rates below. These instructions suspending liquidation will remain in effect until further notice.

Commerce also intends, pursuant to section 706(a)(1) of the Act, to instruct CBP to require cash deposits equal to the amounts as indicated below. Accordingly, effective on the date of publication of the ITC's final affirmative injury determination in the Federal Register, CBP will require, at the same time as importers would normally deposit estimated customs duties on the subject merchandise, a cash deposit for each entry of subject merchandise equal to the subsidy rates listed below.⁶ The all-others rates apply to all producers or exporters not specifically listed below, as appropriate.

⁶ See section 706(a)(3) of the Act.

Estimated Countervailing Duty Subsidy Rates

⁷ Commerce has found the following company to be cross-owned with Ferbasa: Fundação José Carvalho Foundation (Jose Carvalho Foundation).

⁸ Commerce has found the following companies to be cross-owned with Minasligas: Irmazi Participações S.A. (Irmazi), Participações SZ Ltd. (SZ), and Centrium Empreendimentos Ltda. (Centrium).

The estimated countervailable subsidy rates are as follows:

⁹ This rate applies to YDD Corporation LLP and its cross-owned companies: ASIA FerroAlloys LLP; and KazSilicon Metallurgical Combine LLP.

¹⁰ This rate applies to TELF AG and TNC Kazchrome JSC and its cross-owned companies: Eurasian Energy Corporation JSC; and Shubarkol Komir JSC. Commerce has calculated a rate based on adverse inferences to TNC Kazchrome JSC as the unaffiliated producer. This rate is to be applied to subject merchandise produced and/or exported by TELF AG and/or TNC Kazchrome JSC.

¹¹ This rate applies to TELF AG and TNC Kazchrome JSC and its cross-owned companies: Eurasian Energy Corporation JSC; and Shubarkol Komir JSC. Commerce has calculated a rate based on adverse inferences to TNC Kazchrome JSC as unaffiliated producer. This rate is to be applied to subject merchandise produced and/or exported by TELF AG and/or TNC Kazchrome JSC.

Brazil
Company | Subsidy rate (percent ad valorem)
Companhia de Ferro Ligas da Bahia—FERBASA ⁷ | 5.25
Minasligas S.A. ⁸ | 4.44
Ligas de Aluminio S.A. | * 61.73
All Others | 5.01
* Rate based on facts available with adverse inferences.

Kazakhstan
Company | Subsidy rate (percent ad valorem)
YDD Corporation LLP ⁹ | 16.82
TELF AG ¹⁰ | * 265.53
TNC Kazchrome JSC ¹¹ | * 265.53
All Others | 16.82
* Rate based on facts available with adverse inferences

Malaysia:
Company | Subsidy Rate (percent ad valorem)
OM Materials (Sarawak) Sdn. Bhd ¹² | 2.78
Pertama Ferroalloys Sdn. Bhd | 3.48
All Others | 3.08

Provisional Measures

¹² Commerce has found the following companies to be cross-owned with OM Materials: OM Materials & Logistics (M) Sdn. Bhd; OM Materials (Samalaju) Sdn. Bhd; and OM Engineering Tech (M) Sdn. Bhd.

Section 703(d) of the Act states that the suspension of liquidation pursuant to an affirmative preliminary determination may not remain in effect for more than four months. In the underlying investigations, Commerce published the Preliminary Determinations on September 10, 2024.¹³ Therefore, entries of ferrosilicon from Brazil, Kazakhstan, and Malaysia made on or after January 8, 2025, and prior to the date of publication of the ITC's final determinations in the Federal Register, are not subject to the assessment of countervailing duties due to Commerce's discontinuation of the suspension of liquidation.

¹³ See Brazil Preliminary Determination; Kazakhstan Preliminary Determination; and Malaysia Preliminary Determination.

In accordance with section 703(d) of the Act, Commerce instructed CBP to terminate the suspension of liquidation and to liquidate, without regard to countervailing duties, unliquidated entries of ferrosilicon from Brazil, Kazakhstan, and Malaysia entered, or withdrawn from warehouse, for consumption on or after January 8, 2025, the date on which the provisional CVD measures expired, through the day preceding the date of publication of the ITC final injury determinations in the Federal Register. Suspension of liquidation will resume on the date of publication of the ITC final injury determinations in the Federal Register.

Establishment of the Annual Inquiry Service Lists

On September 20, 2021, Commerce published the final rule titled “Regulations to Improve Administration and Enforcement of Antidumping and Countervailing Duty Laws” in the Federal Register.¹⁴ On September 27, 2021, Commerce also published the notice titled “Scope Ruling Application; Annual Inquiry Service List; and Informational Sessions” in the Federal Register.¹⁵ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹⁶

¹⁴ See Regulations to Improve Administration and Enforcement of Antidumping and Countervailing Duty Laws, 86 FR 52300 (September 20, 2021) (Final Rule).

¹⁵ See Scope Ruling Application; Annual Inquiry Service List; and Informational Sessions, 86 FR 53205 (September 27, 2021) (Procedural Guidance).

¹⁶ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹⁷

¹⁷ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website.

Special Instructions for Petitioners and Foreign Governments

In the Final Rule, Commerce stated that, “after an initial request and placement on the annual inquiry service list, both petitioners and foreign governments will automatically be placed on the annual inquiry service list in the years that follow.” ¹⁸ Accordingly, as stated above, the petitioners and the Governments of Brazil, Kazakhstan, and Malaysia should submit their initial entry of appearance after publication of this notice in order to appear in the first annual inquiry service list for those orders for which they qualify as an interested party. Pursuant to 19 CFR 351.225(n)(3), the petitioners and the Governments of Brazil, Kazakhstan, and Malaysia will not need to resubmit their entry of appearance each year to continue to be included on the annual inquiry service list. However, the petitioners and the Governments of Brazil, Kazakhstan, and Malaysia are responsible for making amendments to their entries of appearance during the annual update to the annual inquiry service list in accordance with the procedures described above.

¹⁸ See Final Rule, 86 FR at 52335.

Notification to Interested Parties

This notice constitutes the CVD orders with respect to ferrosilicon from Brazil, Kazakhstan, and Malaysia pursuant to section 736(a) of the Act. Interested parties can find a list of CVD orders currently in effect at https://www.trade.gov/data-visualization/adcvd-proceedings.

These CVD orders are published in accordance with section 706(a) of the Act and 19 CFR 351.211(b).

Dated: May 14, 2025.
Christopher Abbott,
Deputy Assistant Secretary for Policy and Negotiations, performing the non-exclusive functions and duties of the Assistant Secretary for Enforcement and Compliance.

Appendix

Scope of the Orders

The scope of these orders covers all forms and sizes of ferrosilicon, regardless of grade, including ferrosilicon briquettes. Ferrosilicon is a ferroalloy containing by weight four percent or more iron, more than eight percent but not more than 96 percent silicon, three percent or less phosphorus, 30 percent or less manganese, less than three percent magnesium, and 10 percent or less of any other element. The merchandise covered also includes product described as slag, if the product meets these specifications.

Subject merchandise includes material matching the above description that has been finished, packaged, or otherwise processed in a third country, including by performing any grinding or any other finishing, packaging, or processing that would not otherwise remove the merchandise from the scope of the orders if performed in the country of manufacture of the ferrosilicon.

Ferrosilicon is currently classifiable under subheadings 7202.21.1000, 7202.21.5000, 7202.21.7500, 7202.21.9000, 7202.29.0010, and 7202.29.0050 of the Harmonized Tariff Schedule of the United States (HTSUS). While the HTSUS numbers are provided for convenience and customs purposes, the written description of the scope remains dispositive.

[FR Doc. 2025-08987 Filed 5-19-25; 8:45 am]

BILLING CODE 3510-DS-P